DEPARTMENT OF THE INTERIOR

National Park Service

[NPS-WASO-NAGPRA-NPS0036223; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), California State University, Sacramento has completed an inventory of human remains and associated funerary objects and has determined that there is a cultural affiliation between the human remains and associated funerary objects and Indian Tribes or Native Hawaiian organizations in this notice. The human remains and associated funerary objects were removed from Sacramento County, CA.

DATES: Repatriation of the human remains and associated funerary objects in this notice may occur on or after August 21, 2023.

ADDRESSES: Dr. Dianne Hyson, Dean of the College of Social Sciences and Interdisciplinary Studies, California State University, Sacramento, 6000 J Street, Sacramento, CA 95819, telephone (916) 278-6504, email dhyson@csus.edu.

SUPPLEMENTARY INFORMATION: This notice is published as part of the National Park Service's administrative responsibilities under NAGPRA. The determinations in this notice are the sole responsibility of California State University, Sacramento. The National Park Service is not responsible for the determinations in this notice. Additional information on the determinations in this notice, including the results of consultation, can be found in the inventory or related records held by California State University, Sacramento.

Description

Human remains representing, at minimum, three individuals were removed from CA-SAC-06 (also known as Johnson Mound) in Sacramento County, CA. These human remains and associated funerary objects came into the University's possession through donations by Anthony Zallio's estate (in 1951), the family of Charles McKee, and unknown individuals; and through a survey by the University's students (in 1974). Occupation of the site is estimated to have occurred during the Middle through Historic periods. No known individuals were identified. The 722 associated funerary objects consist of baked clay objects; basketry fragments; faunal and floral remains; flaked and ground stones; historic materials; unmodified stones; and modified bones, stones, and shells. Of this number, 15 objects are currently missing, and California State University, Sacramento continues to look for them.

Associated funerary objects were removed from site CA-SAC-21 (also known as Hollister Mound) in Sacramento County, CA, by Anthony Zallio and Charles McKee. These collections were subsequently donated to the University by their estates. Occupation of the site is estimated to have occurred during the Middle through Late periods. The 377 associated funerary objects consist of baked clay objects; faunal remains; flaked stones; historic materials; and modified bones, stones, and shells. Of this number, 25 objects are currently missing, and California State University, Sacramento continues to look for them.

Human remains representing, at minimum, 47 individuals were removed from site CA-SAC-56 (also known as Moser or Moshier Mound) in Sacramento County, CA. These human remains and associated funerary objects came into the University's possession through donations by Anthony Zallio's estate, the Bivens family, and unknown individuals; and through excavations and surveys conducted during 1958-1960 under the direction of Dr. William Beeson. Occupation of the site is estimated to have occurred during the Middle through Historic periods. The 18,514 associated funerary objects consist of baked clay objects; basketry fragments; faunal and floral remains; flaked and ground stones; historic materials; unmodified stones; ash; modified bones, stones, and shells; textiles; and soil samples. Of this number, 22 objects are currently missing, and California State University, Sacramento continues to look for them.

Human remains representing, at minimum, one individual were removed from site CA-SAC-66 (also known as Morse Mound) in Sacramento County, CA. How these human remains and associated funerary objects came into the University's possession is unknown. Occupation of the site is estimated to have occurred during the Middle Period. The six associated funerary objects consist of flaked stones, modified bones, and modified stones. Of this number, one object is currently missing, and California State University, Sacramento continues to look for them.

Associated funerary objects were removed from site CA-SAC-72/73 (also known as Herzog and Van Lobensels Mound) in Sacramento County, CA, by Anthony Zallio and Charles McKee. These collections were subsequently donated to the University by their estates. Occupation of the site is estimated to have occurred during the Middle through Late periods. The 260 associated funerary objects consist of baked clay objects; faunal remains; flaked stones; unmodified stones; and modified bones, stones, and shells. Of this number, 23 objects are currently missing, and California State University, Sacramento continues to look for them.

An associated funerary object was removed from site CA-SAC-75 (also known as Locke Mound) in Sacramento County, CA, by Anthony Zallio. This object was donated to the University by his estate. Aside from a Historic Period component, occupation of the site is not well known. The one associated funerary object is a modified stone.

Associated funerary objects were removed from site CA-SAC-85 (also known as Nicholas Site #2) in Sacramento County, CA, by Anthony Zallio. This collection was donated to the University by his estate. Occupation of the site is estimated to have occurred during the Late through Historic periods. The 51 associated funerary objects consist of flaked stones, modified shells, and modified stones. Of this number, seven objects are currently missing, and California State University, Sacramento continues to look for them.

Human remains representing, at minimum, one individual were removed from site CA-SAC-106 (also known as Castello Mound) in Sacramento County, CA. These human remains and associated funerary objects came into the University's possession through both a 1965 survey conducted under the direction of Dr. William Beeson and a donation by Anthony Zallio's estate. Occupation of the site is estimated to have occurred during the Middle Period. The 17 associated funerary objects consist of flaked stones, modified shells, and historic materials.

Human remains representing, at minimum, two individuals were removed from site CA-SAC-107 (also known as the Windmiller site) in Sacramento County, CA. These human remains and associated funerary objects came into the University's possession through, variously, a 1953 excavation under the direction of Dr. Richard Reeve, a 1974 survey by students of the University, a donation by Anthony Zallio's estate, and a donation by the University of California, Berkeley. Occupation of the site is estimated to have occurred during the Early though Historic periods. The 88 associated funerary objects consist of flaked and ground stones; modified shells, bones, and stones; baked clay objects; and unmodified stones. Of this number, 44 objects are currently missing from the collections, and California State University, Sacramento continues to look for them.

Human remains representing, at minimum, eight individuals were removed from site CA-SAC-126 (also known as the Booth site) in Sacramento County, CA. How these human remains came into the University's possession is not known. A date range for occupation of this site is not known. No associated funerary objects are present.

Associated funerary objects were removed from site CA-SAC-Fessler Mound in Sacramento County, CA by Anthony Zallio. This collection was donated to the University by his estate. A date range for occupation of this site is not known. The 101 associated funerary objects consist of flaked stones, and modified shells, bones, wood, and stones. Of this number, one object is currently missing, and California State University, Sacramento continues to look for them.

Associated funerary objects were removed from site CA-SAC-Oak Tree in Sacramento County, CA by Anthony Zallio. This collection was donated to the University by his estate. A date range for occupation of this site is not known. The 1,428 associated funerary objects consist of modified bones and shells. Of this number, seven objects are currently missing, and California State University, Sacramento continues to look for them.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folkloric, geographical, historical, kinship, linguistic, oral traditional, and expert opinion.

Determinations

Pursuant to NAGPRA and its implementing regulations, and after consultation with the appropriate Indian Tribes and Native Hawaiian organizations, California State University, Sacramento has determined that:

• The human remains described in this notice represent the physical remains of 62 individuals of Native American ancestry.

• The 21,565 objects described in this notice are reasonably believed to have been placed with or near individual human remains at the time of death or later as part of the death rite or ceremony.

• There is a relationship of shared group identity that can be reasonably traced between the human remains and associated funerary objects described in this notice and the Buena Vista Rancheria of Me-Wuk Indians of California; Chicken Ranch Rancheria of Me-Wuk Indians of California; Ione Band of Miwok Indians of California; Jackson Band of Miwuk Indians; Shingle Springs Band of Miwok Indians, Shingle Springs Rancheria (Verona Tract), California; United Auburn Indian Community of the Auburn Rancheria of California; and the Wilton Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 21, 2023. If competing requests for repatriation are received, California State University, Sacramento must determine the most appropriate requestor prior to repatriation. Requests for joint repatriation of the human remains and associated funerary objects are considered a single request and not competing requests. California State University, Sacramento is responsible for sending a copy of this notice to the Indian Tribes identified in this notice.

Authority: Native American Graves Protection and Repatriation Act, 25 U.S.C. 3003, and the implementing regulations, 43 CFR 10.9, 10.10, and 10.14.

Dated: July 14, 2023.
Melanie O'Brien,
Manager, National NAGPRA Program.

[FR Doc. 2023-15520 Filed 7-20-23; 8:45 am]

BILLING CODE 4312-52-P